DEPARTMENT OF JUSTICE

Notice of Lodging of Proposed Consent Decree Under The Clean Air Act, Emergency Panning and Community Right-To-Know Act, Clean Water Act, and The Resource Conservation and Recovery Act

On October 26, 2015, the Department of Justice lodged a proposed Consent Decree with the United States District Court for the Southern District of Iowa in the lawsuit entitled United States v. Barton Solvents, Inc., Civil Action No. 15-378.

Defendant Barton Solvents, Inc. (Barton) distributes chemicals, oils, surfactants, and plasticizers, and provides custom liquid blending, food grade packaging, and laboratory services. The Complaint alleges the following violations at five solvent blending, storage and distribution plants owned and operated by Barton in Iowa and Kansas: (1) Violations of Section 112(r)(1) of the Clean Air Act, known as the General Duty Clause (GDC), 42 U.S.C. 7412(r)(1); (2) violation of Section 304 of the Emergency Planning and Community Right-To-Know Act, 42 U.S.C. 10004; (3) violations of the Spill Prevention Control and Countermeasure (SPCC) regulations promulgated under Section 311(j) of the Clean Water Act, 40 CFR 1321(j); and (4) violations of multiple federal and state Resource Conservation and Recovery Act (RCRA) requirements, 42 U.S.C. 6901 et seq. Under the proposed Consent Decree, Barton will correct ongoing violations, conduct three extensive audits of GDC, SPCC, and RCRA compliance at all of its facilities and pay a civil penalty of $1.1 million.

The publication of this notice opens a period for public comment on the Consent Decree. Comments should be addressed to the Assistant Attorney General, Environment and Natural Resources Division, and should refer to United States v. Barton Solvents, Inc., D.J. Ref. No. 90-5-2-1-10133. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $21.00 (25 cents per page reproduction cost) payable to the United States Treasury.

Susan M. Akers,
Assistant Section Chief, Environmental Enforcement Section, Environment and Natural Resources Division.

[FR Doc. 2015-27765 Filed 10-30-15; 8:45 am]

BILLING CODE 4410-15-P